DEPARTMENT OF TRANSPORTATION

Coast Guard

[USCG-2000-7608]

Chemical Transportation Advisory Committee

AGENCY: Coast Guard, DOT.

ACTION: Notice of meeting.

SUMMARY: The Subcommittee of the Chemical Transportation Advisory Committee (CTAC) on Environmental Response will meet to discuss its tasking and current applicable response standards. The Subcommittee is tasked to identify, review, and make recommendations to the Coast Guard on current industry standards and guidelines for hazardous material response organizations that represent best practices for ensuring safe and effective emergency response operations to marine transportation-related chemical spill incidents. This meeting will be open to the public.

DATES: The Subcommittee will meet on Thursday, August 3, 2000, from 9:00 am to 4 pm. The meeting may close early if all business is finished. Written material and requests to make oral presentations should reach the Coast Guard on or before July 31, 2000. Requests to have a copy of your material distributed to each member of the subcommittee should reach the Coast Guard on or before July 30, 2000.

ADDRESSES: The Subcommittee will meet in room 6319, U.S. Coast Guard Headquarters, 2100 Second Street SW., Washington, DC. Send written material and requests to make oral presentations to Commander Robert F. Corbin, Commandant (G-MSO-3), U.S. Coast Guard Headquarters, 2100 Second Street SW., Washington, DC 20593-0001.

FOR FURTHER INFORMATION CONTACT: Lieutenant Susan Klein, Coast Guard Technical Representative to the Subcommittee, telephone 202-267-0417, or Lieutenant Gregory F. Herold, Deputy Assistant to the Executive Director of CTAC, telephone 202-267-1217, fax 202-267-4570.

SUPPLEMENTARY INFORMATION: Notice of this meeting is given under the Federal Advisory Committee Act, 5 U.S.C. App. 2.

Agenda of Meeting

The agenda of the Subcommittee of the Chemical Transportation Advisory Committee (CTAC) on Environmental Response includes the following:

(1) Introduction of Subcommittee members.

(2) Brief overview of Subcommittee tasking and desired outcome.

(3) Discussion of current applicable regulatory requirements and industry best practice response standards.

(4) Evaluation of the need to provide certain criteria or best practices to the field.

(5) Development of future Subcommittee activities.

Procedural

The meeting is open to the public. Please note that the meeting may close early if all business is finished. All attendees at the meeting are encouraged to fully review the Subcommittee's task statement prior to the meeting. Copies of the Subcommittee's task statement can be obtained from Lieutenant Susan Klein, telephone 202-267-0417, or Lieutenant Gregory F. Herold, telephone 202-267-1217, fax 202-267-4570. It is also available from the CTAC Internet Website at: www.uscg.mil/hq/g-m/advisory/ctac. At the discretion of the Subcommittee Chair, members of the public may make oral presentations during the meeting. If you would like to make an oral presentation at the meeting, please notify the Coast Guard Technical Representative to the Subcommittee and submit written material on or before July 31, 2000. If you would like a copy of your material distributed to each member of the Subcommittee in advance of a meeting, please submit 25 copies to the Coast Guard Technical Representative to the Subcommittee no later than July 30, 2000.

Information on Services for Individuals With Disabilities

For information on facilities or services for individuals with disabilities, or to request special assistance at the meeting, contact the Deputy Assistant to the Executive Director of CTAC as soon as possible.

Dated: July 3, 2000.
Peter A. Richardson,
Acting Director of Standards, Marine Safety and Environmental Protection.

[FR Doc. 00-17676 Filed 7-12-00; 8:45 am]

BILLING CODE 4910-15-M